DEPARTMENT OF HEALTH AND HUMAN SERVICES

Substance Abuse and Mental Health Services Administration

Advisory Committee for Women's Services; Notice of Meeting

Pursuant to Public Law 92-463, notice is hereby given of a Web-based meeting of the Substance Abuse and Mental Health Services Administration (SAMHSA) Advisory Committee for Women's Services on July 29, 2009 from 2 p.m. to 4:30 p.m. The meeting is open to the public and will include an update on current and emerging research on women-specific substance use and mental health issues.

ACWS members and invited presenters will participate in this meeting through remote internet connection. On-site attendance by the public will be limited to space available. The meeting can also be accessed by the public via teleconference. To obtain teleconference call-in numbers and access codes, to make arrangements to attend on-site, or to request special accommodations for persons with disabilities, please communicate with Ms. Nevine Gahed, Designated Federal Official (see contact information below).

Substantive meeting information and a roster of Committee members may be obtained either by accessing the SAMHSA Committees' Web site at https://nac.samhsa.gov/WomenServices/index.aspx, or by contacting Ms. Gahed. The transcript for the meeting will also be available on the SAMHSA Committees' Web site within three weeks after the meeting.

Committee Name: SAMHSA Advisory Committee for Women's Services.

Date/Time/Type: Wednesday, July 29, 2009, from 2 p.m. to 4:30 p.m.: Open.

Place: 1 Choke Cherry Road, Sugarloaf Conference Room, Rockville, Maryland 20857.

Contact: Nevine Gahed, Designated Federal Official, SAMHSA Advisory Committee for Women's Services, 1 Choke Cherry Road, Room 8-1112, Rockville, Maryland 20857, Telephone: (240) 276-2331; FAX: (240) 276-2220 and E-mail: nevine.gahed@samhsa.hhs.gov.

Dated: July 6, 2009.
Toian Vaughn,
Committee Management Officer, Substance Abuse and Mental Health Services Administration.

[FR Doc. E9-16457 Filed 7-10-09; 8:45 am]

BILLING CODE 4162-20-P